DEPARTMENT OF AGRICULTURE

Forest Service

Notice of Proposed New Fee Site; Federal Lands Recreation Enhancement Act, (Title VIII, Pub. L. 108-447)

AGENCY: Siuslaw National Forest, USDA Forest Service.

ACTION: Notice of proposed new fee site.

SUMMARY: The Siuslaw National Forest is planing to charge fees at a new recreation site that has recently been constructed. Fees are assessed based on the level of amenitites and services provided, cost of operation and maintenance and market assessment. Funds from fees will be used for the continued operation and maintenance of the site. Old Bark Road OHV Staging Area at the Oregon Dunes NRA will be available for day use staging by off highway vehicles (OHVs). A $5 per day fee will be charged for each highway vehicle using the site. National and regionally focused recreation passes such as the Interagency Annual Pass, Senior Pass or Access Pass and the Northwest Forest Pass will be valid for day use fees at the site. Northwest Forest Passes are $5 for a daily pass and $30 for an annual pass. The Interagency Annual Pass Costs $80.

DATES: New fees would began after June 2007 and are contingent upon completion of certain improvements.

ADDRESSES: Jose Linares, Forest Supervisor, Siuslaw National Forest, 4077 SW Research Way, Corvallis, OR 97333.

FOR FURTHER INFORMATION CONTACT: Mike Harvey, Recreation Fee Coordinator, 541-750-7046. Information about proposed fee changes can also be found on the Siuslaw National Forest Web site: http//www.fs.fed.us/r6/Siuslaw/recreation/index.html.

SUPPLEMENTARY INFORMATION: The Federal Recreation Lands Enhancement Act (Title VII, P.L. 108-447) directed the Secretary of Agriculture to publish a six month advance notice in Federal Register whenever new recreation fees are established. Once public involvement is complete, these new fees will be reviewed by a Recreation Resource Advisory Committee prior to a final decision and implementation.

Dated: January 8, 2007.
Jose L. Linaes,
Forest Supervisor.

[FR Doc. 07-92 Filed 1-11-07; 8:45 am]

BILLING CODE 3410-11-M